DEPARTMENT OF HEALTH AND HUMAN SERVICES

Administration for Children and Families

Submission for OMB Review; Comment Request

Title: Understanding the Dynamics of Disconnection from Employment and Assistance.

OMB No.: New Collection.

Description: The Office of Planning, Research and Evaluation, Administration for Children and Families (ACF), U.S. Department of Health and Human Services (HHS), is proposing a data collection activity to improve understanding of low-income individuals and families who are disconnected from employment and from public assistance and particularly those not receiving cash assistance through the Temporary Assistance for Needy Families (TANF) program. ACF is proposing to use a discussion guide to collect qualitative information. The guide will be used to interview respondents in order to learn about their experiences with disconnection. Topics will include recent employment and reasons for not working; use of public benefit programs and reasons for using or not using specific benefits; their financial circumstances and material well-being including the stability and sources of income, housing and living arrangements; their coping strategies for addressing their circumstances; and their views on potential pathways to improve their financial and material well-being.

Information will be collected in two sites with relatively high concentrations of low-income families: Los Angeles, California and Southeast Michigan. Respondents will be sampled from two existing longitudinal surveys in those sites: The Best Start Los Angeles Pilot Community Evaluation, currently led by the Urban Institute's Health Policy Center and the Center for Healthier Children, Families and Communities at the University of California Los Angeles (UCLA), and the Michigan Recession and Recovery Study OIRTO, conducted by the National Poverty Center of the University of Michigan.

Respondents: Low-income women who have resident children and who are neither employed nor receiving TANF or Supplemental Security Income (SSI) for themselves. Women who are currently employed or receiving TANF may be included in the study if they experienced at least six months of unemployment in the past two years, had a child Lid were unmarried during the period of unemployment, and were not receiving TANF at the time.

Annual Burden Estimates
Instrument | Annual number of respondents | Number of responses per respondent | Average burden hours per response | Total annual burden hours
Advertisement Script (LA) | 300 | 1 | 0.1 | 30
Telephone Recruitment script and Screener (LA) | 100 | 1 | 0.25 | 25
Follow-up Telephone Script to Schedule Interview (LA) | 36 | 1 | 0.05 | 2
Consent Form for Interviews (LA) | 36 | 1 | 0.2 | 7
Receipt of Payment Form (LA) | 36 | 1 | 0.03 | 1
Consent Form for Linking Data (LA) | 36 | 1 | 0.08 | 3
Telephone Recruitment Script and Screener (MI) | 35 | 1 | 0.25 | 9
Consent Form for Interviews (MI) | 30 | 1 | 0.2 | 6
Conversation Guide (LA and MI) | 66 | 90 | 1.5 | 99

Estimated Total Annual burden hours: 182.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA SUBMISSION@OMB.EOP.GOV, Attn: Desk Officer for the Administration for Children and Families.

Steven M. Hanmer,
OPRE Reports Clearance Officer.

[FR Doc. 2012-30155 Filed 12-14-12; 8:45 am]

BILLING CODE 4184-09-M